DEPARTMENT OF TRANSPORTATION

Federal Aviation Administration

Notice of Intent To Request Revision From the Office of Management and Budget of a Currently Approved Information Collection Activity, Request for Comments; Pilot Records Improvement Act of 1996

AGENCY: Federal Aviation Administration (FAA), DOT.

ACTION: Notice and request for comments.

SUMMARY: The FAA invites public comments about our intention to request the Office of Management and Budget (OMB) to approve a current information collection. Title 49 U.S.C. Section 44936(f) mandates that airlines must obtain safety records of prospective employees from the FAA and from previous air carrier employers, and the National Driver Register, before an offer of employment is made.

DATES: Please submit comments by May 22, 2007.

FOR FURTHER INFORMATION CONTACT: Carla Mauney on (202) 267-9895, or by e-mail at: Carla.Mauney@faa.gov.

SUPPLEMENTARY INFORMATION:

Federal Aviation Administration (FAA)

Title: Pilot Records Improvement Act of 1996.

Type of Request: Revision of an approved collection.

OMB Control Number: 2120-0607.

Forms(s): 8060-10, 8060-10A, 8060-11, 8060-11A.

Affected Public: A total of 16,514 Respondents.

Frequency: The information is collected on occasion.

Estimated Average Burden per Response: Approximately 2.5 hours per response.

Estimated Annual Burden Hours: An estimated 41,741 hours annually.

Abstract: Title 49 U.S.C. Section 44936(f) mandates that airlines must obtain safety records of prospective employees from the FAA and from previous air carrier employers, and the National Driver Register, before an offer of employment is made.

ADDRESSES: Send comments to the FAA at the following address: Ms. Carla Mauney, Room 712, Federal Aviation Administration, Strategy and Investment Analysis Division, AIO-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 19, 2007.
Carla Mauney,
FAA Information Collection Clearance Officer, Strategy and Investment Analysis Division, AIO-20.

[FR Doc. 07-1440 Filed 3-22-07; 8:45 am]

BILLING CODE 4910-13-M